DEPARTMENT OF COMMERCE

International Trade Administration

[A-549-817]

Certain Hot-Rolled Carbon Steel Flat Products from Thailand: Extension of Time Limit for Final Results of Changed Circumstances Review

AGENCY: Import Administration, International Trade Administration, Department of Commerce.

SUMMARY: The U.S. Department of Commerce (“the Department”) is extending the time limit for the final results of the changed circumstances review of the antidumping duty order on certain hot-rolled carbon steel flat products (“hot-rolled steel”) from Thailand. The period of review is July 1, 2006, through June 30, 2007. This extension is made pursuant to 19 CFR 351.216(e) and 19 CFR 351.302(b).

FOR FURTHER INFORMATION CONTACT: John Drury or Angelica Mendoza, AD/CVD Operations, Office 7, Import Administration, International Trade Administration, U.S. Department of Commerce, 14th Street and Constitution Avenue NW, Washington, DC 20230; telephone: (202) 482-0195 or (202) 482-3019, respectively.

SUPPLEMENTARY INFORMATION:

Background

On November 29, 2001, the Department published the antidumping duty order on hot-rolled steel from Thailand. See Antidumping Duty Order: Certain Hot-Rolled Carbon Steel Flat Products From Thailand, 66 FR 59562 (November 29, 2001) (“Hot-Rolled Steel Order”). In November 2004, in the course of the 2003 - 2004 administrative review, Sahaviriya Steel Industries Public Company Limited (“SSI”) requested revocation of the Hot-Rolled Steel Order with respect to its sales of subject merchandise. See Certain Hot-Rolled Carbon Steel Flat Products From Thailand; Preliminary Results of Antidumping Duty Administrative Review and Intent to Revoke and Rescind in Part, 70 FR 73197 (December 9, 2005).

In its revocation request, SSI agreed to immediate reinstatement in the Hot-Rolled Steel Order, so long as any producer or reseller is subject to the order, should the Department determine that SSI “sold the subject merchandise at less than normal value.” See SSI's November 30, 2004, letter to the Department requesting revocation. On May 17, 2006, the Department revoked the antidumping duty order with respect to SSI after having determined that SSI sold the merchandise at not less than normal value for a period of at least three consecutive years.¹ See Revocation.

¹ The three administrative reviews forming the basis of the revocation are: 1) the May 3, 2001, through October 31, 2002, review, Certain Hot-Rolled Carbon Steel Flat Products From Thailand: Final Results and Partial Rescission of Antidumping Duty Administrative Review, 69 FR 19388 (April 13, 2004); 2) the November 1, 2002, through October 31, 2003, review, Certain Hot-Rolled Carbon Steel Flat Products from Thailand: Rescission of Antidumping Duty Administrative Review, 69 FR 18349 (April 7, 2004); and 3) the November 1, 2003, through October 31, 2004, review, Certain Hot-Rolled Carbon Steel Flat Products from Thailand: Final Results of Antidumping Duty Administrative Review, Partial Revocation of Antidumping Duty Order and Partial Rescission of Antidumping Duty Administrative Review, 71 FR 28659 (May 17, 2006) (“Revocation”)

As the result of an adequate allegation from a domestic interested party in this proceeding (i.e., United States Steel Corporation), the Department, pursuant to section 751(b)(1) of the Tariff Act of 1930, as amended (“the Act”), is now conducting a changed circumstances review to determine whether SSI has resumed dumping hot-rolled steel and whether the antidumping order should be reinstated for hot-rolled steel from Thailand manufactured and exported by SSI. See Initiation of Antidumping Duty Changed Circumstances Review: Certain Hot-Rolled Carbon Steel Flat Products from Thailand, 73 FR 18766 (April 7, 2008).

“On October 29, 2008, based upon the complexity of the issues presented in this review, we extended the time limit for completion of this changed circumstances review until April 22, 2009. See Certain Hot-Rolled Carbon Steel Flat Products from Thailand: Extension of Time Limit for Final Results of Changed Circumstances Review, 73 FR 64303 (October 29, 2008) (“Extension Notice”).²

² On December 10, 2008, we issued a notice correcting an error in the Extension Notice. See Certain Hot-Rolled Carbon Steel Flat Products from Thailand: Correction to Notice of Extension of Time Limit for Final Results of Changed Circumstances Review, 73 FR 75079 (December 10, 2008).

On December 30, 2008, the Department published the preliminary results of the changed circumstances review and intent to reinstate SSI in the antidumping duty order on hot-rolled steel from Thailand. See Certain Hot-Rolled Carbon Steel Flat Products from Thailand: Preliminary Results of Changed Circumstances Review and Intent To Reinstate Sahaviriya Steel Industries Public Company Limited in the Antidumping Duty Order, 73 FR 79809 (December 30, 2008) (“Preliminary Results”).³

³ On February 5, 2009, the Department issued a notice correcting an error in the Preliminary Results. See Certain Hot-Rolled Carbon Steel Flat Products from Thailand: Correction to Preliminary Results of Changed Circumstances Review and Intent To Reinstate Sahaviriya Steel Industries Public Company Limited in the Antidumping Duty Order, 74 FR 6136 (February 5, 2009).

Extension of Time Limits for Final Results

As the Department stated in both the Extension Notice and the Preliminary Results, the Department intended to issue the final results of this antidumping duty changed circumstances review on hot-rolled steel from Thailand by April 22, 2009. However, it is not practicable to complete the review within this time period. In order to evaluate fairly the issues raised by all interested parties in their respective case and rebuttal briefs, we are extending the time frame for completion of this review. As a result, pursuant to 19 CFR 351.302(b), we are extending the time limit for completion of the review by 15 days. See Certain Pasta from Italy: Notice of Extension of Final Results of Antidumping Duty Changed Circumstances Review, 73 FR 46871 (August 12, 2008), and Polyethylene Terephthalate Film Sheet and Strip from the Republic of Korea: Extension of Time Limit for Final Results of Changed Circumstances Review, 73 FR 6931 (February 6, 2008). Therefore, the final results are now due no later than May 7, 2009.

This notice is published in accordance with sections 751(b) and 771(i) of the Act.

Dated: April 22, 2009.
John M. Andersen,
Acting Deputy Assistant Secretary for Antidumping and Countervailing Duty Operations.

[FR Doc. E9-9815 Filed 4-28-09; 8:45 am]

BILLING CODE 3510-DS-S